DEPARTMENT OF COMMERCE

National Oceanic and Atmospheric Administration

RIN: 0648-XW16

New England Fishery Management Council; Public Meeting

AGENCY: National Marine Fisheries Service (NMFS), National Oceanic and Atmospheric Administration (NOAA), Commerce.

ACTION: Notice of cancellation of a public meeting.

SUMMARY: The New England Fishery Management Council (Council) has cancelled the public meeting of its Joint Skate Committee and Advisory Panel that was scheduled for Tuesday, May 18, 2010 beginning at 9:30 a.m., in Peabody, MA.

FOR FURTHER INFORMATION CONTACT: Paul J. Howard, Executive Director, New England Fishery Management Council; telephone: (978) 465-0492.

SUPPLEMENTARY INFORMATION: The initial notice was published on May 3, 2010, (75 FR 23244) and the meeting will be rescheduled at a later date and announced in the Federal Register.

Dated: May 3, 2010.
Tracey L. Thompson,
Acting Director, Office of Sustainable Fisheries, National Marine Fisheries Service.

[FR Doc. 2010-10755 Filed 5-6-10; 8:45 am]

BILLING CODE 3510-22-S